DEPARTMENT OF THE TREASURY

Office of Foreign Assets Control

Additional Designations, Foreign Narcotics Kingpin Designation Act

AGENCY: Office of Foreign Assets Control, Treasury.

ACTION: Notice.

SUMMARY: The U.S. Department of the Treasury's Office of Foreign Assets Control (“OFAC”) is publishing the names of five individuals whose property and interests in property have been blocked pursuant to the Foreign Narcotics Kingpin Designation Act (“Kingpin Act”) (21 U.S.C. 1901-1908, 8 U.S.C. 1182).

DATES: The designation by the Director of OFAC of the five individuals identified in this notice pursuant to section 805(b) of the Kingpin Act is effective on September 25, 2012.

FOR FURTHER INFORMATION CONTACT: Assistant Director, Sanctions Compliance & Evaluation, Office of Foreign Assets Control, U.S. Department of the Treasury, Washington, DC 20220, Tel: (202) 622-2490.

SUPPLEMENTARY INFORMATION:

Electronic and Facsimile Availability

This document and additional information concerning OFAC are available on OFAC's Web site at http://www.treasury.gov/ofac or via facsimile through a 24-hour fax-on-demand service at (202) 622-0077.

Background

The Kingpin Act became law on December 3, 1999. The Kingpin Act establishes a program targeting the activities of significant foreign narcotics traffickers and their organizations on a worldwide basis. It provides a statutory framework for the imposition of sanctions against significant foreign narcotics traffickers and their organizations on a worldwide basis, with the objective of denying their businesses and agents access to the U.S. financial system and the benefits of trade and transactions involving U.S. companies and individuals.

The Kingpin Act blocks all property and interests in property, subject to U.S. jurisdiction, owned or controlled by significant foreign narcotics traffickers as identified by the President. In addition, the Secretary of the Treasury, in consultation with the Attorney General, the Director of the Central Intelligence Agency, the Director of the Federal Bureau of Investigation, the Administrator of the Drug Enforcement Administration, the Secretary of Defense, the Secretary of State, and the Secretary of Homeland Security may designate and block the property and interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On September 25, 2012, the Director of OFAC designated the following five individuals whose property and interests in property are blocked pursuant to section 805(b) of the Kingpin Act.

Individuals

1. DIAS PANIAGUA, Rigoberto, Calle Yacatas No. 366, Planta Alta, Colonia Narvarte, Delegacion Benito Juarez, Distrito Federal Codigo Postal 03020, Mexico; Calle Sor Juana Ines de la Cruz No. 144, Departamento 124, Colonia Miguel Hidalgo Codigo Postal 14410, Mexico; DOB 05 Sep 1966; POB Acambaro, Guanajuato, Mexico; R.F.C. DIPR-690905 J31 (Mexico); alt. R.F.C. DIPR-660905 J31 (Mexico); C.U.R.P. DIPR660905HGTSNG05 (Mexico) (individual) [SDNTK].

2. FELIX FELIX, Victor Manuel (a.k.a. CASTRO RODRIGUEZ, Raul), Callejon Hortensias No. 320, Colonia Ciudad Bugambilias, Zapopan, Jalisco, Mexico; Calle Madero No. 39 Poniente, Lote 51, Colonia Centro, Culiacan, Sinaloa Codigo Postal 80000, Mexico; Privada San Geronimo No. 1801, Fraccionamiento San Jeronimo, Mexicali, Baja California Codigo Postal 21297, Mexico; Calle Victor Hugo No. 177, Interior 12, Colonia Portales, Delegacion Benito Juarez, Distrito Federal Codigo Postal 03300, Mexico; Circuito de las Flores Norte 2252, Fraccionamiento Ciudad Bugambilias, Zapopan, Jalisco, Mexico; Presa la Boquilla 1033, Colonia Las Quintas, Culiacan, Sinaloa, Mexico; Boulevard Francisco I. Madero 39 Poniente Despacho 501, Colonia Centro, Culiacan, Sinaloa, Mexico; Sevilla 1526 302 A, Fraccionamiento el Cid, Mazatlan, Sinaloa CP 82110, Mexico; Privada de San Jeronimo, San Jeronimo, Algodones, Baja California CP 21298, Mexico; Privada Puerta de Roble Numero 17-E, Fraccionamiento Puerta de Roble, Zapopan, Jalisco, Mexico; DOB 10 Nov 1957; alt. DOB 20 Jan 1958; POB Culiacan, Sinaloa, Mexico; alt. POB Baja, California, Mexico; R.F.C. FEFV571110-G75 (Mexico); Credencial electoral FLFLVC57111025H101 (Mexico); C.U.R.P. FEFV571110HSLLLC08 (Mexico) (individual) [SDNTK].

3. GONZALEZ CARDENAS, Jorge Guillermo, Calle Moras No. 543-B, Colonia Del Valle, Delegacion Benito Juarez, Distrito Federal Codigo Postal 03100, Mexico; Avenida Coyoacan No. 43, Colonia Del Valle, Delegacion Benito Juarez, Distrito Federal Codigo Postal 03100, Mexico; Castillo de Kent 38, Manzana 26 Lote 37, Condado de Sayavedra, Atizapan de Zaragoza, Estado de Mexico CP 52930, Mexico; DOB 24 Oct 1962; POB Culiacan, Sinaloa, Mexico; Passport 07380070619 (Mexico); R.F.C. GOCJ6210241Q0 (Mexico); C.U.R.P. GOCJ621024HSLNRR06 (Mexico) (individual) [SDNTK].

4. VAZQUEZ VILLAVICENCIO, Gabriela, Edificio G-11 Interior No. 24, Unidad Habitacional, Lomas de Plateros, Delegacion Alvaro Obregon, Distrito Federal Codigo Postal 01480, Mexico; Calle Campos Eliseos No. 403 Interior 202, Colonia Polanco, Delegacion Miguel Hidalgo, Distrito Federal Codigo Postal 11550, Mexico; Calle Moliere No. 66, Colonia Palmas Polanco, Delegacion Miguel Hidalgo, Distrito Federal Codigo Postal 11560, Mexico; Calle Ferrocarril de Cintura No. 300, Colonia Carranza Emilio, Delegacion Venustiano Carranza, Distrito Federal Codigo Postal 15230, Mexico; Calle Moliere No. 227, Colonia Polanco, Delegacion Miguel Hidalgo, Distrito Federal Codigo Postal 11560, Mexico; Francisco P. Miranda 3, Colonia Lomas de Plateros, Ciudad de Mexico CP 01480, Mexico; DOB 28 Feb 1965; POB Distrito Federal, Mexico; C.U.R.P. VAVG650228MDFZLB05 (Mexico) (individual) [SDNTK].

5. VILLA DIAZ, Oscar Dominguez (a.k.a. VILLA DIAZ, Oscar Domingo), Calle Acapulco No. 35 Interior 804, Colonia Roma, Delegacion Cuauhtemoc, Distrito Federal Codigo Postal 06700, Mexico; DOB 20 Sep 1945; POB Guadalajara, Jalisco, Mexico; Passport 06340040209 (Mexico); R.F.C. VIDO450920SK6 (Mexico) (individual) [SDNTK].

Dated: September 25, 2012.
Adam J. Szubin,
Director, Office of Foreign Assets Control.

[FR Doc. 2012-24624 Filed 10-4-12; 8:45 am]

BILLING CODE 4810-AL-P